OFFICE OF MANAGEMENT AND BUDGET

Cumulative Report on Rescissions and Deferrals

April 1, 2000.

Section 1014(e) of the Congressional Budget and Impoundment Control Act of 1974 (Public Law 93-344) requires a monthly report listing all budget authority for the current fiscal year for which, as of the first day of the month, a special message had been transmitted to Congress.

This report gives the status, as of April 1, 2000, of three rescission proposals and two deferrals contained in one special message for FY 2000. The message was transmitted to Congress on February 9, 2000.

Rescissions (Attachments A and C)

As of April 1, 2000, three rescission proposals totaling $128 million have been transmitted to the Congress. Attachment C shows the status of the FY 2000 rescission proposals.

Deferrals (Attachments B and D)

As of April 1, 2000, $726 million in budget authority was being deferred from obligation. Attachment D shows the status of each deferral reported during FY 2000.

Information From Special Message

The special message containing information on the rescission proposals and deferrals that are covered by this cumulative report are printed in the edition of the Federal Register cited below: 65 FR 9017, Wednesday, February 23, 2000.

Jacob J. Lew,
Director.

Attachments

Attachment A.—Status of FY 2000 Rescissions
[in millions of dollars]
| Budgetary resources
Rescissions proposed by the President | 128.0
Rejected by the Congress |
Currently before the Congress for less than 45 days | 128.0

Attachment B.—Status of FY 2000 Deferrals
[in millions of dollars]
| Budgetary resources
Deferrals proposed by the President | 1,622.0
Routine Executive releases through April 1, 2000 | −896.0
(OMB/Agency releases of $896.0 million)
Overturned by the Congress
Currently before the Congress | 726.0

Attachment C.—Status of FY 2000 Rescission Proposals—As of April 1, 2000
[Amounts in thousands of dollars]
Agency/bureau/account | Rescission No. | Amounts pending before Congress: Less than 45 days | Amounts pending before Congress: More than 45 days | Date of message | Previously withheld and made available | Date made available | Amount rescinded | Congressional action
Department of Energy:
Atomic Energy Defense Activities: Defense Environmental Restoration and Waste Management | R00-1 | 13,000 |  | 2-9-00 | (*) |  |  |
Energy Programs: SPR Petroleum Account | R00-2 | 12,000 |  | 2-9-00 | (*) |  |  |
Department of Housing and Urban Development:
Public and Indian housing: Housing Certificate Fund | R00-3 | 103,000 |  | 2-9-00 | (*) |  |  |
Total, Rescissions |  | 128,000 |  |  |  |  |  |
* No funds are being withheld.

Attachment D.—Status of FY 2000 Deferrals—As of April 1, 2000
[Amounts in thousands of dollars]
Agency/bureau/account | Deferral No. | Amounts Transmitted: Original request | Amounts Transmitted: Subsequent change (+) | Date of message | Releases (−): Cumulative OMB/ agency | Releases (−): Congressionally required | Congressional action | Cumulative adjustments | Amount deferred as of 4-1-00
Department of State:
Other: United States Emergency Refugee and Migration Assistance Fund | D00-1 | 172,858 |  | 2-9-00 | 27,548 |  |  |  | 145,310
International Assistance Programs:
International Security Assistance: Economic Support Fund | D99-2 | 1,449,159 |  | 2-9-00 | 868,450 |  |  |  |
Total, deferrals |  | 1,622,017 |  |  | 895,998 |  |  |  | 726,019

[FR Doc. 00-9691 Filed 4-17-00; 8:45 am]

BILLING CODE 3110-01-P